DEPARTMENT OF COMMERCE

International Trade Administration

[A-557-809]

Stainless Steel Butt-Weld Pipe Fittings from Malaysia: Rescission of Antidumping Duty Administrative Review; 2019-2020

AGENCY: Enforcement and Compliance, International Trade Administration, Department of Commerce.

SUMMARY: The Department of Commerce (Commerce) is rescinding the administrative review of the antidumping duty order on stainless steel butt-weld pipe fittings from Malaysia for the period February 1, 2019, through January 31, 2020.

DATES: Applicable July 31, 2020.

FOR FURTHER INFORMATION CONTACT: Preston N. Cox, AD/CVD Operations, Office VI, Enforcement and Compliance, International Trade Administration, U.S. Department of Commerce, 1401 Constitution Avenue NW, Washington, DC 20230; telephone: (202) 482-5041.

SUPPLEMENTARY INFORMATION:

Background

On February 3, 2020, Commerce published in the Federal Register a notice of opportunity to request an administrative review of the antidumping duty order on stainless steel butt-weld pipe fittings from Malaysia for the period February 1, 2019, through January 31, 2020.¹ On February 28, 2020, Commerce received a timely request from Core Pipe Products, Inc. and Taylor Forge Stainless, Inc. (the petitioners), domestic producers of stainless steel butt-weld pipe fittings, for administrative reviews of Pantech Stainless & Alloy Industries Sdn. Bhd. (Pantech) and TSS Pipes & Fittings Industry Sdn. Bhd. (TSS), exporters of stainless steel butt-weld pipe fittings.² On March 2, 2020, Pantech and TSS filed timely requests for review of their own respective companies.³ These requests were in accordance with section 751(a) of the Tariff Act of 1930, as amended (the Act), and 19 CFR 351.213(b).

¹ See Antidumping or Countervailing Duty Order, Finding, or Suspended Investigation; Opportunity to Request Administrative Review, 85 FR 5938 (February 3, 2020).

² See Petitioners' Letter, “Stainless Steel Butt-Weld Pipe Fittings from Malaysia: Petitioners' Request for 2019/2020 Administrative Review,” dated February 28, 2020.

³ See Pantech's Letter, “Pantech Request for Administrative Review of the Antidumping Duty Order on Stainless Steel Butt-Weld Pipe Fittings from Malaysia,” dated March 2, 2020; and TSS's Letter, “Stainless Steel Butt-Weld Pipe Fittings from Malaysia: Request for 2019/2020 Administrative Review,” dated March 2, 2020.

On April 8, 2020, pursuant to these requests and in accordance with section 751(a) of the Act and 19 CFR 351.221(c)(1)(i), Commerce initiated an administrative review of Pantech and TSS.⁴ On June 16, 2020, the petitioners timely withdrew the request for administrative review with respect to Pantech,⁵ and Pantech timely withdrew its request for administrative review of itself.⁶ On July 14, 2020, the petitioners timely withdrew the request for administrative review with respect to TSS.⁷ On July 15, 2020, TSS timely withdrew its request for administrative review of itself.⁸

⁴ See Initiation of Antidumping and Countervailing Duty Administrative Reviews, 85 FR 19730 (April 8, 2020).

⁵ See Petitioners' Letter, “Stainless Steel Butt-Weld Pipe Fittings From Malaysia—Petitioners'

Withdrawal of Review Request of Pantech Stainless & Alloy Industries Sdn. Bhd.,” dated June 16, 2020.

⁶ See Pantech's Letter, “Withdrawal of Administrative Review Request & Request for Rescission of Administrative Review: Administrative Review of the Antidumping Duty Order on Stainless Steel Butt-Weld Pipe Fittings from Malaysia,” dated June 16, 2020.

⁷ See Petitioners' Letter, “Stainless Steel Butt-Weld Pipe Fittings From Malaysia—Petitioners' Withdrawal of Review Request of TSS Pipes & Fittings Industry Sdn. Bhd.,” dated July 14, 2020.

⁸ See TSS's Letter, “Stainless Steel Butt-Weld Pipe Fittings (SSBWPF) From Malaysia,” dated July 15, 2020.

Rescission of Review

Pursuant to 19 CFR 351.213(d)(1), Commerce will rescind an administrative review, in whole or in part, if the parties which requested the review withdraw the request within 90 days of the date of publication of the notice of initiation of the requested review. On April 24, 2020, Commerce tolled all deadlines in administrative reviews by 50 days,⁹ extending the 90-day deadline for withdrawing requests for review from July 7, 2020, to August 27, 2020. Therefore, all parties that requested an administrative review withdrew their requests for review for all companies within the applicable deadline. Accordingly, we are rescinding in its entirety the administrative review of the antidumping duty order on stainless steel butt-weld pipe fittings from Malaysia covering the period February 1, 2019, through January 31, 2020.

⁹ See Memorandum, “Tolling of Deadlines for Antidumping and Countervailing Duty Administrative Reviews in Response to Operational Adjustments Due to COVID-19,” dated April 24, 2020.

Assessment

Commerce will instruct U.S. Customs and Border Protection (CBP) to assess antidumping duties on all appropriate entries of stainless steel butt-weld pipe fittings from Malaysia. Antidumping duties shall be assessed at rates equal to the cash deposit of estimated antidumping duties required at the time of entry, or withdrawal from warehouse, for consumption, in accordance with 19 CFR 351.212(c)(1)(i). Commerce intends to issue appropriate assessment instructions to CBP 15 days after the date of publication of this notice in the Federal Register.

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of doubled antidumping duties.

Notification Regarding Administrative Protective Orders

This notice also serves as a final reminder to parties subject to administrative protective order (APO) of their responsibility concerning the disposition of proprietary information disclosed under APO in accordance with 19 CFR 351.305. Timely written notification of the return or destruction of APO materials or conversion to judicial protective order is hereby requested. Failure to comply with the regulations and terms of an APO is a sanctionable violation.

Notification to Interested Parties

This notice is issued and published in accordance with sections 751(a)(1) and 777(i)(1) of the Act, and 19 CFR 351.213(d)(4).

Dated: July 24, 2020.
James Maeder,
Deputy Assistant Secretary for Antidumping and Countervailing Duty Operations.

[FR Doc. 2020-16691 Filed 7-30-20; 8:45 am]

BILLING CODE 3510-DS-P